OFFICE OF PERSONNEL MANAGEMENT

Excepted Service

AGENCY: U.S. Office of Personnel Management (OPM).

ACTION: Notice.

SUMMARY: This notice identifies Schedule A, B, and C appointing authorities applicable to a single agency that were established or revoked from October 1, 2015, to October 31, 2015.

FOR FURTHER INFORMATION CONTACT: Senior Executive Resources Services, Senior Executive Services and Performance Management, Employee Services, 202-606-2246.

SUPPLEMENTARY INFORMATION: In accordance with 5 CFR 213.103, Schedule A, B, and C appointing authorities available for use by all agencies are codified in the Code of Federal Regulations (CFR). Schedule A, B, and C appointing authorities applicable to a single agency are not codified in the CFR, but the Office of Personnel Management (OPM) publishes a notice of agency-specific authorities established or revoked each month in the Federal Register at www.gpo.gov/fdsys/. OPM also publishes an annual notice of the consolidated listing of all Schedule A, B, and C appointing authorities, current as of June 30, in the Federal Register.

Schedule A

No Schedule A Authorities to report during October 2015.

Schedule B

No Schedule B Authorities to report during October 2015.

Schedule C

The following Schedule C appointing authorities were approved during October 2015.

Agency name | Organization name | Position title | Authorization No. | Effective date
DEPARTMENT OF AGRICULTURE | Office of the Assistant Secretary for Congressional Relations | Legislative Analyst | DA160002 | 10/6/2015
| Office of the Under Secretary for Research, Education, and Economics | Special Assistant | DA160004 | 10/19/2015
| Office of the Secretary | White House Liaison | DA160007 | 10/19/2015
DEPARTMENT OF COMMERCE | Office of the Assistant Secretary for Industry and Analysis | Special Assistant (2) | DC16000 DC160014 | 10/6/201 10/30/2015
| Office of the Under Secretary | Senior Advisor (2) | DC16000 DC160004 | 10/6/2015 10/6/2015
| Office of the Assistant Secretary for Economic Development | Special Assistant | DC160005 | 10/6/2015
| Office of Public Affairs | Deputy Director of Public Affairs and Press Secretary | DC160006 | 10/6/2015
|  | Deputy Director of Public Affairs and Director of Digital Strategy and Engagement | DC160007 | 10/8/2015
|  | Senior Public Affairs Coordinator | DC160008 | 10/20/2015
|  | Deputy Director of Public Affairs and Director of Speechwriting | DC160015 | 10/28/2015
| Office of the Chief Information Officer | Chief of Staff | DC160010 | 10/21/2015
| International Trade Administration | Senior Advisor | DC160011 | 10/21/2015
CONSUMER PRODUCT SAFETY COMMISSION | Office of Legislative Affairs | Director, Office of Congressional Relations | PS160001 | 10/7/2015
DEPARTMENT OF DEFENSE | Office of the Under Secretary of Defense (Policy) | Special Advisor for Russia/Ukraine External Affairs | DD150199 | 10/9/2015
| Washington Headquarters Services | Defense Fellow (5) | DD15020 DD15020 DD15020 DD15020 DD160007 | 10/13/2015 10/21/2015 10/21/2015 10/21/2015 10/23/2015
| Office of the Secretary | Special Assistant | DD160004 | 10/15/2015
|  | Protocol Officer (2) | DD16000 DD160011 | 10/26/2015 10/28/2015
| Office of the Assistant Secretary of Defense (International Security Affairs) | Special Assistant for Nuclear Missile Defense Policy | DD150200 | 10/21/2015
| Office of the Assistant Secretary of Defense (Asian and Pacific Security Affairs) | Special Assistant (Afghanistan, Pakistan and Central Asia) | DD160001 | 10/30/2015
| Office of the Under Secretary of Defense (Personnel and Readiness) | Special Assistant (Personnel and Readiness) | DD160010 | 10/30/2015
| Office of the Assistant Secretary of Defense (Legislative Affairs) | Special Assistant Special Assistant (Legislative Affairs) (Team Chief, Personnel and Readiness) | DD150198 DD160012 | 10/13/2015 10/30/2015
DEPARTMENT OF EDUCATION | Office of the Under Secretary | Executive Director, White House Initiative on Historically Black Colleges and Universities | DB150126 | 10/1/2015
|  | Senior Policy Advisor | DB160002 | 10/29/2015
| Office of the Deputy Secretary | Deputy Chief of Staff | DB150127 | 10/1/2015
| Office of the Secretary | Strategic Operations Manager | DB160003 | 10/30/2015
DEPARTMENT OF ENERGY | Office of Public Affairs | Deputy Press Secretary | DE150142 | 10/9/2015
| Office of Economic Impact and Diversity | Special Advisor | DE160002 | 10/9/2015
| Office of Associate Administrator for External Affairs | Press Secretary | DE160010 | 10/16/2015
| Office of Assistant Secretary for Energy Efficiency and Renewable Energy | Senior Advisor | DE160008 | 10/19/2015
| Office of Assistant Secretary for Congressional and Intergovernmental Affairs | Legislative Affairs Advisor | DE150146 | 10/28/2015
| Office of Scheduling and Advance | Director of Scheduling | DE160006 | 10/28/2015
ENVIRONMENTAL PROTECTION AGENCY | Office of the Administrator | Director of Scheduling and Advance | EP160005 | 10/9/2015
|  | Deputy White House Liaison | EP160001 | 10/16/2015
|  | Deputy Chief of Staff for Operations | EP160004 | 10/16/2015
EXECUTIVE OFFICE OF THE PRESIDENT | Council on Environmental Quality | Executive Assistant | OP160001 | 10/9/2015
FEDERAL ENERGY REGULATORY COMMISSION | Office of General Counsel | Program Analyst | DR160001 | 10/6/2015
GENERAL SERVICES ADMINISTRATION | Office of Communications and Marketing | Deputy Press Secretary Senior Advisor | GS150057 GS160003 | 10/6/2015 10/21/2015
| Office of Congressional and Intergovernmental Affairs | Policy Advisor | GS160002 | 10/21/2015
DEPARTMENT OF HEALTH AND HUMAN SERVICES | Office of the Assistant Secretary for Legislation | Special Assistant (2) | DH15019 DH160002 | 10/1/2015 10/9/2015
| Office of the Assistant Secretary for Health | Senior Policy Advisor | DH150192 | 10/1/2015
| Office for Civil Rights | Special Assistant | DH150193 | 10/1/2015
| Centers for Medicare and Medicaid Services | Special Assistant | DH160004 | 10/9/2015
| Substance Abuse and Mental Health Services Administration | Policy Advisor | DH160008 | 10/21/2015
| Office of the National Coordinator for Health Information Technology | Chief of Staff | DH160006 | 10/26/2015
| Office of the Assistant Secretary for Children and Families | Special Assistant | DH160011 | 10/30/2015
DEPARTMENT OF HOMELAND SECURITY | Office of the Executive Secretariat Office of the Chief of Staff | Special Projects Coordinator Deputy White House Liaison | DM150265 DM160001 | 10/1/2015 10/2/2015
| Office of the Under Secretary for National Protection and Programs Directorate | Special Assistant | DM160004 | 10/9/2015
| Federal Emergency Management Agency | Special Assistant | DM150257 | 10/13/2015
DEPARTMENT OF HOUSING AND URBAN DEVELOPMENT | Office of Congressional and Intergovernmental Relations | Senior Advisor | DU150079 | 10/9/2015
| Office of the Secretary | Special Assistant and Briefing Book Coordinator | DU160002 | 10/27/2015
DEPARTMENT OF THE INTERIOR | Office of Assistant Secretary—Indian Affairs | Senior Advisor—Indian Affairs | DI150120 | 10/9/2015
| Office of Congressional and Legislative Affairs | Special Assistant, Office of Congressional and Legislative Affairs | DI150121 | 10/9/2015
| Secretary's Immediate Office | Special Assistant | DI150130 | 10/9/2015
|  | Deputy Director, Intergovernmental Affairs | DI160002 | 10/19/2015
| United States Fish and Wildlife Service | Special Assistant | DI150047 | 10/16/2015
| Office of Special Trustee for American Indians | Advisor | DI150125 | 10/28/2015
| Bureau of Ocean Energy Management | Special Assistant | DI160004 | 10/28/2015
DEPARTMENT OF JUSTICE | Civil Rights Division | Senior Counsel | DJ160005 | 10/8/2015
| Office on Violence Against Women | Confidential Assistant | DJ160007 | 10/13/2015
| Office of Public Affairs | Press Secretary and Senior Advisor | DJ160003 | 10/15/2015
DEPARTMENT OF LABOR | Veterans Employment and Training Service | Special Advisor | DL150094 | 10/8/2015
| Office of Public Affairs | Special Assistant (2) | DL16000 DL160002 | 10/16/2015 10/21/2015
NATIONAL ENDOWMENT FOR THE ARTS | Office of the Chairman | Press Secretary Public Affairs Specialist (Social Media) | NA160002 NA160003 | 10/26/2015 10/28/2015
OFFICE OF MANAGEMENT AND BUDGET | Office of Federal Procurement Policy | Confidential Assistant | BO150041 | 10/1/2015
SMALL BUSINESS ADMINISTRATION | Office of Congressional and Legislative Affairs | Legislative Policy Advisor | SB160002 | 10/6/2015
| Office of Communications and Public Liaison | Senior Advisor for Public Engagement | SB160001 | 10/15/2015
DEPARTMENT OF STATE | Bureau of Democracy, Human Rights and Labor | Foreign Affairs Officer Special Assistant | DS160002 DS160003 | 10/8/2015 10/13/2015
| Office of the Under Secretary for Arms Control and International Security Affairs | Senior Advisor Senior Advisor | DS150101 DS150102 | 10/9/2015 10/9/2015
| Foreign Policy Planning Staff | Special Assistant (Speechwriter) | DS150132 | 10/15/2015
| Office of the Under Secretary for Public Diplomacy and Public Affairs | Writer-Editor (Speechwriter) | DS150131 | 10/16/2015
| Bureau of Western Hemisphere Affairs | Foreign Affairs Officer | DS160005 | 10/23/2015
| Bureau of Political and Military Affairs | Writer-Editor (Speechwriter) | DS150134 | 10/30/2015
| Office of the Lead Coordinator for Iran Nuclear Implementation | Staff Assistant | DS160007 | 10/30/2015
TRADE AND DEVELOPMENT AGENCY | Office of the Director | Director of Public Engagement | TD160001 | 10/27/2015
DEPARTMENT OF THE TREASURY | Office of the Secretary of the Treasury | Special Assistant Associate Director | DY160002 DY160003 | 10/2/2015 10/9/2015
|  | Senior Advisor | DY160004 | 10/9/2015
DEPARTMENT OF VETERANS AFFAIRS | Office of the Secretary and Deputy Office of the Assistant Secretary for Congressional and Legislative Affairs | Special Assistant Director Outreach | DV150062 DV150065 | 10/1/2015 10/1/2015.

The following Schedule C appointing authorities were revoked during October 2015.

Agency name | Organization name | Position title | Authorization No. | Vacate date
COMMISSION ON CIVIL RIGHTS | Office of Commissioners | Special Assistant | CC130004 | 10/14/2015
COMMODITY FUTURES TRADING COMMISSION | Office of the Chairman | Policy Advisor | CT150003 | 10/30/2015
CONSUMER PRODUCT SAFETY COMMISSION | Office of Commissioners | Special Assistant (Legal) | PS150001 | 10/08/2015
DEPARTMENT OF AGRICULTURE | Office of the Under Secretary for Rural Development | Special Assistant | DA100120 | 10/03/2015
| Office of the Secretary | Confidential Assistant | DA150003 | 10/17/2015
DEPARTMENT OF COMMERCE | Office of Deputy Assistant Secretary for Legislative and Intergovernmental Affairs | Senior Advisor | DC130010 | 10/12/2015
| Office of the Assistant Secretary for Industry and Analysis | Director, Office of Advisory Committees and Industry Outreach | DC150131 | 10/17/2015
| Office of Public Affairs | Director of Digital Strategy | DC150008 | 10/17/2015
|  | Press Secretary | DC120146 | 10/17/2015
|  | Director of Speechwriting | DC140099 | 10/31/2015
|  | Press Assistant | DC150082 | 10/31/2015
| Office of the Assistant Secretary for Economic Development | Confidential Assistant | DC140128 | 10/17/2015
| Office of the Under Secretary | Chief Communications Officer | DC120150 | 10/17/2015
OFFICE OF THE SECRETARY OF DEFENSE | Office of the Under Secretary of Defense (Personnel and Readiness) | Special Assistant to the Principal Under Secretary for Defense, Personnel and Readiness | DD150154 | 10/17/2015
OFFICE OF THE SECRETARY OF DEFENSE | Office of the Assistant Secretary of Defense (Legislative Affairs) | Special Assistant | DD120010 | 10/31/2015
DEPARTMENT OF THE ARMY | Office of the Under Secretary | Personal and Confidential Assistant | DW060064 | 10/30/2015
DEPARTMENT OF EDUCATION | Office of Legislative and Congressional Affairs | Special Assistant | DB150022 | 10/03/2015
| Office of the Deputy Secretary | Deputy Chief of Staff | DB150090 | 10/03/2015
| Office of the Under Secretary | Deputy Director, White House Initiative on Historically Black Colleges and Universities | DB130068 | 10/03/2015
| Office of Planning, Evaluation and Policy Development | Deputy Assistant Secretary for Planning and Policy Development | DB140048 | 10/09/2015
| Office of Career Technical and Adult Education | Confidential Assistant | DB140087 | 10/30/2015
| Office of Elementary and Secondary Education | Deputy Assistant Secretary for Policy and Programs | DB150062 | 10/31/2015
| Office of the Secretary | Confidential Assistant | DB150015 | 10/31/2015
DEPARTMENT OF ENERGY | Office of Public Affairs | Deputy Press Secretary | DE150004 | 10/03/2015
| Office of Energy Policy and Systems Analysis | Advisor for Climate Change | DE140062 | 10/31/2015
| Office of Management | Deputy Director of Scheduling and Advance | DE150040 | 10/31/2015
| Office of the Secretary | Special Advisor to the Secretary | DE130116 | 10/31/2015
ENVIRONMENTAL PROTECTION AGENCY | Office of the Administrator | Director of Scheduling and Advance | EP130017 | 10/17/2015
| Operations Staff | Deputy Director for Scheduling and Advance | EP140014 | 10/17/2015
DEPARTMENT OF HEALTH AND HUMAN SERVICES | Office of the Assistant Secretary for Health | Policy Advisor | DH130114 | 10/03/2015
| Office of the Assistant Secretary for Legislation | Confidential Assistant to the Deputy Assistant Secretary for Legislation, and Discretionary Health | DH150014 | 10/03/2015
| Office of the Assistant Secretary for Children and Families | Confidential Assistant | DH140114 | 10/31/2015
DEPARTMENT OF HOMELAND SECURITY | Federal Emergency Management Agency | Special Assistant | DM140208 | 10/03/2015
| Office of the Assistant Secretary for Intergovernmental Affairs | Intergovernmental Affairs Coordinator | DM150008 | 10/03/2015
| Office of the Chief of Staff | Special Assistant | DM150050 | 10/03/2015
| Office of the Secretary | Senior Counselor to the Secretary | DM150200 | 10/08/2015
| Office of the Assistant Secretary for Policy | Senior Advisor for Cyber Policy | DM150172 | 10/16/2015
| Office of the Executive Secretariat | Deputy Secretary Briefing Book Coordinator | DM140206 | 10/16/2015
| United States Citizenship and Immigration Services | Counselor to the Director | DM140100 | 10/30/2015
DEPARTMENT OF HOUSING AND URBAN DEVELOPMENT | Office of the Administration | Scheduling Assistant and Briefing Book Coordinator | DU140051 | 10/31/2015
DEPARTMENT OF THE INTERIOR | United States Fish and Wildlife Service | Special Assistant | DI130045 | 10/17/2015
| Secretary's Immediate Office | Special Assistant | DI140023 | 10/18/2015
DEPARTMENT OF JUSTICE | Office of Public Affairs | Press Secretary | DJ140016 | 10/17/2015
| Office on Violence Against Women | Confidential Assistant | DJ140120 | 10/17/2015
| Office of the Associate Attorney General | Counsel and Chief of Staff | DJ150041 | 10/18/2015
OFFICE OF MANAGEMENT AND BUDGET | Office of Federal Procurement Policy | Confidential Assistant | BO140036 | 10/03/2015
DEPARTMENT OF STATE | Bureau of Economic and Business Affairs | Senior Advisor | DS140079 | 10/31/2015
DEPARTMENT OF TRANSPORTATION | Office of the Assistant Secretary for Governmental Affairs | Associate Director for Governmental and Tribal Affairs | DT140026 | 10/03/2015

Authority: 5 U.S.C. 3301 and 3302; E.O. 10577, 3 CFR, 1954-1958 Comp., p. 218.

U.S. Office of Personnel Management.
Beth F. Cobert,
Acting Director.

[FR Doc. 2016-02114 Filed 2-3-16; 8:45 am]

BILLING CODE 6325-39-P